RAILROAD RETIREMENT BOARD

20 CFR Part 341

RIN 3220-AB60

Electronic Filing of Settlement and Final Judgment Notices by Railroad Employers

AGENCY: Railroad Retirement Board.

ACTION: Final rule.

SUMMARY: The Railroad Retirement Board (Board) amends its regulations to include the option of electronic notification by railroad employers of settlements and final judgments based on an injury for which sickness benefits have been paid under the Railroad Unemployment Insurance Act (RUIA). Part 341 currently requires that notifications of settlements and final judgments be submitted to the Board in writing. This rule allows these notifications to be made by railroad employers either in writing or by sending an electronic message, e.g. via e-mail.

DATES: Effective Date: This regulation shall be effective September 8, 2006.

ADDRESSES: Beatrice Ezerski, Secretary to the Board, Railroad Retirement Board, 844 Rush Street, Chicago, Illinois 60611.

FOR FURTHER INFORMATION CONTACT: Marguerite P. Dadabo, Assistant General Counsel, Railroad Retirement Board, 844 Rush Street, Chicago, Illinois 60611, (312) 751-4945, TDD (312) 751-4701.

SUPPLEMENTARY INFORMATION: Part 341 of the Board's regulations deals with the notification of settlements and final judgments based on an injury for which sickness benefits have been paid under the Railroad Unemployment Insurance Act (RUIA). Currently, the regulations require all individuals or companies to make notifications of settlements and final judgments in writing to the Board. These revisions allow railroad employers to also notify the Board electronically in these instances, e.g. via e-mail.

Section 341.6(a) is amended to allow railroad employers to notify the Board, in writing or electronically in the manner prescribed by the agency, of a settlement or final judgment based on an injury for which the employee received sickness benefits.

In addition, this rule amends sections 341.8(a) and 341.8(b) to allow a railroad employer to notify the Board electronically or in writing. Also, sections 341.8(b) and (c) are amended to change the outdated references of “Division of Claims Operations” and “Bureau of Unemployment and Sickness Insurance” to the correct reference of “Sickness and Unemployment Benefits Section”.

The Board, with the concurrence of the Office of Management and Budget (OMB), has determined that this is not a significant regulatory action under Executive Order 12866. Therefore, no regulatory impact analysis is required.

There is an information collection impacted by the amended rule.

The Railroad Retirement Board is providing notice that OMB has approved the information collection requirements contained in the affected sections of this final rule. The OMB Control Number for this collection is 3220-0036, expiring January 31, 2009.

The Board published the proposed rule on December 9, 2005 (70 FR 73176) and invited comments by February 7, 2006. No comments were received. Accordingly, the proposed rule is being published as a final rule.

List of Subjects in 20 CFR Part 341

Railroad unemployment insurance, Reporting and recordkeeping requirements.

For the reasons set out in the preamble, the Railroad Retirement Board amends title 20, Chapter II, subchapter C, part 341 of the Code of Federal Regulations as follows:

PART 341—STATUTORY LIEN WHERE SICKNESS BENEFITS PAID

1. The authority citation for part 341 continues to read as follows:

Authority: 45 U.S.C. 362(o).

2. Revise § 341.6(a) introductory text to read as follows:

§ 341.6 Report of settlement or judgment.

(a) When a person or company makes a settlement or must satisfy a final judgment based on an injury for which the employee received sickness benefits, the person or company shall notify the Board of the settlement or final judgment. That notice shall be in writing and submitted within five days of the settlement or final judgment. A railroad employer may fulfill the written notice requirement by sending an electronic message in the manner prescribed by the agency. That notification shall contain:

* * * * *

3. Amend § 341.8 as follows:

a. Add a new sentence to the end of paragraph (a);

b. Revise paragraph (b); and

c. Amend paragraph (c) by removing the phrase “Division of Claims Operations” and adding the phrase “Sickness and Unemployment Benefits Section” in its place.

The additions and revisions read as follows:

§ 341.8 Termination of sickness benefits due to a settlement.

(a) * * * A railroad employer may file the required report by sending an electronic message in the manner prescribed by the agency.

(b) A report of settlement shall be made to the Sickness and Unemployment Benefits Section and shall include the information required in § 341.6. Where the report is an oral report, and the informant is neither the employee nor his or her representative, the informant shall be told that written confirmation containing the information called for by § 341.6 must be submitted to the Board within 5 days from the date of the oral report. A railroad employer may fulfill the written report requirement by sending an electronic message in the manner prescribed by the agency.

* * * * *

Dated: September 5, 2006.
By Authority of the Board.
Beatrice Ezerski,
Secretary to the Board.

[FR Doc. E6-14884 Filed 9-7-06; 8:45 am]

BILLING CODE 7905-01-P